DEPARTMENT OF HEALTH AND HUMAN SERVICES

[Document Identifier OS-0990-new; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Evaluation of the effectiveness of an educational interactive video on research integrity—OMB No. 0990-New- Office of Research Integrity.

Abstract: The Office of Research Integrity (ORI) proposes to conduct a web based survey evaluation study of the effectiveness of an educational interactive video on research integrity. This study is web-based survey of research faculty/instructors, Research Integrity Officers (RIOs) and Research Administrators' perceptions of the effectiveness of this educational interactive video.

The study seeks to answer two questions: (a) Do researchers feel that this DVD would enhance their teaching of research integrity issues? (b) Will researchers use this DVD in future research methodology or ethics courses? Both hypotheses will be tested with a customer satisfaction type survey. A portion of the survey will collect data on respondent demographics to enable subanalyses on important subpopulations. Participants will be research instructors/faculty, Research Integrity Officers (RIOs) and Research Administrators) who have experience with the ORI educational programs or who may have experience with RCR programs in the near future. The information to be collected will be used by the ORI to help gain additional insight regarding the effectiveness of this educational interactive video, and determining whether it meets our customers' needs and ORI's mission and goals.

Estimated Annualized Burden Table
Type of respondents | Number of respondents | Number of responses per respondent | Average burden per response (in hours) | Total burden hours
Research Integrity Officers (RIOs), Research Administrators, Faculty/Instructors | 6000 | 1 | 21/60 | 2100

Keith A. Tucker,
Paperwork Reduction Act Reports Clearance Officer, Office of the Secretary.

[FR Doc. 2012-9768 Filed 4-23-12; 8:45 am]

BILLING CODE 4150-31-P